DEPARTMENT OF COMMERCE

International Trade Administration

[A-570-156, C-570-157, A-588-881]

Aluminum Lithographic Printing Plates From Japan and the People's Republic of China: Antidumping Order; Aluminum Lithographic Printing Plates From the People's Republic of China: Countervailing Duty Order

AGENCY: Enforcement and Compliance, International Trade Administration, Department of Commerce.

SUMMARY: Based on affirmative final determinations by the U.S. Department of Commerce (Commerce) and the U.S. International Trade Commission (ITC), Commerce is issuing the antidumping duty (AD) orders on aluminum lithographic printing plates (printing plates) from the People's Republic of China (China) and Japan and a countervailing duty (CVD) order on printing plates from China.

DATES: Applicable November 22, 2024.

FOR FURTHER INFORMATION CONTACT: Benito Ballesteros (AD China), Caroline Carroll (AD Japan), and Ajay Menon (CVD China), AD/CVD Operations, Office IX, Enforcement and Compliance, International Trade Administration, U.S. Department of Commerce, 1401 Constitution Avenue NW, Washington, DC 20230; telephone: (202) 482-7435; (202) 482-4948, and (202) 482-0208, respectively.

SUPPLEMENTARY INFORMATION:

Background

In accordance with sections 705(d) and 735(d) of the Tariff Act of 1930, as amended (the Act), on September 27, 2024, Commerce published its affirmative final determinations of sales at less than fair value (LTFV) for printing plates from China and Japan,¹ and its affirmative final determination that countervailable subsidies are being provided to producers and exporters of printing plates from China.²

¹ See Aluminum Lithographic Printing Plates from the People's Republic of China: Final Affirmative Determination of Sales at Less-Than-Fair-Value and Final Affirmative Determination of Critical Circumstances, 89 FR 79256 (September 27, 2024) (China Final LTFV Determination); and Aluminum Lithographic Printing Plates from Japan: Final Affirmative Determination of Sales at Less-Than-Fair-Value, 89 FR 79250 (September 27, 2024).

² See Aluminum Lithographic Printing Plates from the People's Republic of China: Final Affirmative Countervailing Duty Determination and Final Affirmative Determination of Critical Circumstances, 89 FR 79248 (September 27, 2024).

On November 12, 2024, pursuant to sections 705(d) and 735(d) of the Act, the ITC notified Commerce of its final affirmative determinations that an industry in the United States is materially injured by reason of dumped imports of printing plates from China and Japan, and subsidized imports of printing plates from China, within the meaning of sections 705(b)(1)(A)(i) and 735(b)(1)(A)(i) of the Act.³ On November 18, 2024, the ITC published its final determinations in the Federal Register.⁴ Further, the ITC determined that critical circumstances do not exist with respect to LTFV imports and subsidized imports of printing plates from China.⁵

³ See ITC's Letter, “Notification of ITC Final Determination,” dated November 12, 2024 (ITC Notification Letter).

⁴ See Aluminum Lithographic Printing Plates from China and Japan: Determinations 89 FR 90737 (November 18, 2024).

⁵ Id.

Scope of the Orders

The products covered by these orders are printing plates from China and Japan. For a complete description of the scope of the orders, see the appendix to this notice.

AD Orders

On November 12, 2024, in accordance with section 735(d) of the Act, the ITC notified Commerce of its final determinations that an industry in the United States is materially injured within the meaning of section 735(b)(1)(A)(i) of the Act by reason of imports of printing plates from China and Japan that are sold in the United States at LTFV.⁶ Therefore, in accordance with sections 735(c)(2) and 736 of the Act, Commerce is issuing these AD orders. Because the ITC determined that imports of printing plates from China and Japan are materially injuring a U.S. industry, unliquidated entries of such merchandise from China and Japan, entered or withdrawn from warehouse for consumption, are subject to the assessment of antidumping duties.

⁶ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of printing plates from China and Japan. Antidumping duties will be assessed on unliquidated entries of printing plates entered, or withdrawn from warehouse, for consumption on or after May 1, 2024, the date of publication of the LTFV Preliminary Determinations,⁷ but will not include entries occurring after the expiration of the provisional measures period and before publication of the ITC's final injury determination, as further described below.

⁷ See Aluminum Lithographic Printing Plates from the People's Republic of China: Preliminary Affirmative Determination of Sales at Less Than Fair Value, Preliminary Affirmative Determination of Critical Circumstances, and Postponement of Final Determination and Extension of Provisional Measures, 89 FR 35062 (May 1, 2024) (China LTFV Preliminary Determination); and Aluminum Lithographic Printing Plates from Japan: Preliminary Affirmative Determination of Sales at Less Than Fair Value, Postponement of Final Determination, and Extension of Provisional Measures, 89 FR 35065 (May 1, 2024) (collectively, LTFV Preliminary Determinations).

Critical Circumstances—AD China

With respect to the ITC's negative critical circumstances determination on imports of printing plates from China, we will instruct CBP to lift suspension and to refund any cash deposits made to secure the payment of estimated antidumping duties with respect to entries of the subject merchandise from China entered, or withdrawn from warehouse, for consumption on or after February 1, 2024 (i.e., 90 days prior to the date of the publication of the China LTFV Preliminary Determination), but before May 1, 2024 (i.e., the date of publication of the China LTFV Preliminary Determination).

Continuation of Suspension of Liquidation and Cash Deposits—AD

Except as noted in the “Provisional Measures—AD” section of this notice, Commerce intends to instruct CBP to continue to suspend liquidation on all relevant entries of printing plates from China and Japan, in accordance with section 736 of the Act. These instructions suspending liquidations will remain in effect until further notice.

Commerce also intends to instruct CBP to require cash deposits equal to the estimated weighted-average dumping margins indicated in the tables below, adjusted by the relevant export subsidy offsets. Accordingly, effective on the date of publication in the Federal Register of the notice of the ITC's final affirmative injury determination, CBP must require, at the same time as importers would normally deposit estimated customs duties on subject merchandise, a cash deposit equal to the rates listed in the tables below.

Estimated Weighted-Average Dumping Margins

The estimated weighted-average dumping margins are as follows:

⁸ See China Final LTFV Determination, 89 FR 79257.

China
Exporter | Producer | Weighted- average dumping margin (percent) | Cash deposit rate (adjusted for subsidy offsets) (percent) ⁸
Fujifilm Printing Plate (China) Co., Ltd | Fujifilm Printing Plate (China) Co., Ltd | 115.85 | 115.84
China-wide Entity |  | 317.44 | 317.43

Japan
Exporter/producer | Weighted- average dumping margin (percent)
Fujifilm Corporation; Fujifilm Shizuoka Co., Ltd | 91.83
Miraclon Corporation Ltd | 160.11
All Others | 91.83

Provisional Measures—AD

Section 733(d) of the Act states that suspension of liquidation pursuant to an affirmative preliminary determination may not remain in effect for more than four months, except where exporters representing a significant proportion of exports of the subject merchandise request that Commerce extend the four-month period to no more than six months. At the request of exporters that accounted for a significant proportion of exports of printing plates from China and Japan, Commerce extended the four-month period to no more than six months.⁹ In the underlying investigations, Commerce published the LTFV Preliminary Determinations on May 1, 2024. Therefore, the six-month period beginning on the date of the publication of the LTFV Preliminary Determinations ended on October 27, 2024. Pursuant to section 737(b) of the Act, the collection of cash deposits at the rates listed above will begin on the date of publication of the ITC's final injury determination. Therefore, in accordance with section 736(a)(1) of the Act and our practice, Commerce will instruct CBP to terminate the suspension of liquidation and to liquidate, without regard to antidumping duties, unliquidated entries of printing plates from China and Japan entered, or withdrawn from warehouse, for consumption on or after October 28, 2024, the first day provisional measures were no longer in effect, until and through the day preceding the date of publication of the ITC's final injury determination in the Federal Register. Suspension of liquidation and the collection of cash deposits will resume on the date of publication of the ITC's final determination in the Federal Register.

⁹ See LTFV Preliminary Determinations.

CVD Order

As stated above, based on the above-referenced affirmative final determination by the ITC that an industry in the United States is materially injured within the meaning of section 705(b)(1)(A)(i) of the Act by reason of subsidized imports of printing plates from China,¹⁰ in accordance with section 705(c)(2) of the Act, Commerce is issuing this CVD order. Moreover, because the ITC determined that imports of printing plates from China are materially injuring a U.S. industry, unliquidated entries of subject merchandise from China entered, or withdrawn from warehouse, for consumption, are subject to the assessment of countervailing duties.

¹⁰ See ITC Notification Letter.

Therefore, in accordance with section 706(a) of the Act, Commerce intends to direct CBP to assess, upon further instructions by Commerce, countervailing duties on all relevant entries of printing plates from China, which are entered, or withdrawn from warehouse, for consumption on or after March 1, 2024, the date of publication of the China CVD Preliminary Determination, but will not include entries occurring after the expiration of the provisional measures period and before the publication of the ITC's final injury determination under section 705(b) of the Act, as further described in the “Provisional Measures—CVD” section of this notice.¹¹

¹¹ See Aluminum Lithographic Printing Plates from the People's Republic of China: Preliminary Affirmative Countervailing Duty Determination, and Alignment of Final Determination with Final Antidumping Duty Determination, 89 FR 15134 (March 1, 2024) (China CVD Preliminary Determination).

Critical Circumstances—CVD

With respect to the ITC's negative critical circumstances determination on imports of printing plates from China, we will instruct CBP to lift suspension and to refund any cash deposits made to secure the payment of estimated countervailing duties with respect to entries of the subject merchandise from China entered, or withdrawn from warehouse, for consumption on or after December 2, 2023 (i.e., 90 days prior to the date of the publication of the China CVD Preliminary Determination), but before March 1, 2024 (i.e., the date of publication of the China CVD Preliminary Determination).

Suspension of Liquidation and Cash Deposits—CVD

In accordance with section 706 of the Act, Commerce intends to instruct CBP to reinstitute the suspension of liquidation of printing plates from China, effective on the date of publication of the ITC's final affirmative injury determination in the Federal Register, and to assess, upon further instruction by Commerce, pursuant to section 706(a)(1) of the Act, countervailing duties on each entry of subject merchandise in an amount based on the net countervailable subsidy rates below. On or after the date of publication of the ITC's final injury determination in the Federal Register, CBP must require, at the same time as importers would normally deposit estimated customs duties on this merchandise, a cash deposit equal to the rates listed in the table below. These instructions suspending liquidation will remain in effect until further notice. The all-others rate applies to all producers or exporters not specifically listed below, as appropriate.

Estimated Countervailing Duty Subsidy Rates

The estimated countervailing duty subsidy rates are as follows:

Company | Subsidy rate (percent ad valorem)
Fujifilm Printing Plate (China) Co., Ltd.¹² | 35.66
Shanghai National Ink Co. Ltd | 229.54
All Others | 35.66

Provisional Measures—CVD

¹² Commerce has found the following company to be cross-owned with Fujifilm Printing Plate (China) Co., Ltd.: Fujifilm (China) Investment Co., Ltd.

Section 703(d) of the Act states that the suspension of liquidation pursuant to an affirmative preliminary determination may not remain in effect for more than four months. Commerce published the China CVD Preliminary Determination on March 1, 2024.¹³ As such, the four-month period beginning on the date of the publication of the China CVD Preliminary Determination ended on June 28, 2024.

¹³ See China CVD Preliminary Determination.

Therefore, in accordance with section 703(d) of the Act, we instructed CBP to terminate the suspension of liquidation and to liquidate, without regard to countervailing duties, unliquidated entries of printing plates from China or withdrawn from warehouse, for consumption, on or after June 29, 2024, the date on which the provisional measures expired, until and through the day preceding the date of publication of the ITC's final injury determination in the Federal Register. Suspension of liquidation and the collection of cash deposits will resume on the date of publication of the ITC's final determination in the Federal Register.

Establishment of the Annual Inquiry Service Lists

On September 20, 2021, Commerce published the Final Rule in the Federal Register.¹⁴ On September 27, 2021, Commerce also published the Procedural Guidance in the Federal Register.¹⁵ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹⁴ See Regulations to Improve Administration and Enforcement of Antidumping and Countervailing Duty Laws, 86 FR 52300 (September 20, 2021) (Final Rule).

¹⁵ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁶

¹⁶ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁷ the new annual inquiry service list will be in place until the following year, when the Opportunity Notice for the anniversary month of the order is published.

¹⁷ See Procedural Guidance, 86 FR 53206.

Commerce may update an annual inquiry service list at any time as needed based on interested parties' amendments to their entries of appearance to remove or otherwise modify their list of members and representatives, or to update contact information. Any changes or announcements pertaining to these procedures will be posted to the ACCESS website at https://access.trade.gov.

Special Instructions for Petitioner and Foreign Governments

In the Final Rule, Commerce stated that, “after an initial request and placement on the annual inquiry service list, both petitioners and foreign governments will automatically be placed on the annual inquiry service list in the years that follow.” ¹⁸ Accordingly, as stated above, the petitioner and the Governments of China and Japan should submit their initial entries of appearance after publication of this notice in order to appear in the first annual inquiry service lists for these orders. Pursuant to 19 CFR 351.225(n)(3), the petitioner and the Governments of China and Japan will not need to resubmit their entries of appearance each year to continue to be included on the annual inquiry service list. However, the petitioner and the Governments of China and Japan are responsible for making amendments to their entries of appearance during the annual update to the annual inquiry service list in accordance with the procedures described above.

¹⁸ See Final Rule, 86 FR 52335.

Notification to Interested Parties

This notice constitutes the AD orders with respect to printing plates from China and Japan and the CVD order with respect to printing plates from China, pursuant to sections 706(a) and 736(a) of the Act. Interested parties can find a list of AD and CVD orders currently in effect at https://www.trade.gov/datavisualization/adcvd-proceedings.

These orders are issued and published in accordance with sections 706(a) and 736(a) of the Act and 19 CFR 351.211(b).

Dated: November 18, 2024.
Abdelali Elouaradia,
Deputy Assistant Secretary for Enforcement and Compliance.

Appendix

Scope of the Orders

The merchandise covered by these orders are aluminum lithographic printing plates. Aluminum lithographic printing plates consist of a flat substrate containing at least 90 percent aluminum. The aluminum-containing substrate is generally treated using a mechanical, electrochemical, or chemical graining process, which is followed by one or more anodizing treatments that form a hydrophilic layer on the aluminum-containing substrate. An image-recording, oleophilic layer that is sensitive to light, including but not limited to ultra-violet, visible, or infrared, is dispersed in a polymeric binder material that is applied on top of the hydrophilic layer, generally on one side of the aluminum lithographic printing plate. The oleophilic light-sensitive layer is capable of capturing an image that is transferred onto the plate by either light or heat. The image applied to an aluminum lithographic printing plate facilitates the production of newspapers, magazines, books, yearbooks, coupons, packaging, and other printed materials through an offset printing process, where an aluminum lithographic printing plate facilitates the transfer of an image onto the printed media. Aluminum lithographic printing plates within the scope of these orders include all aluminum lithographic printing plates, irrespective of the dimensions or thickness of the underlying aluminum substrate, whether the plate requires processing after an image is applied to the plate, whether the plate is ready to be mounted to a press and used in printing operations immediately after an image is applied to the plate, or whether the plate has been exposed to light or heat to create an image on the plate or remains unexposed and is free of any image.

Subject merchandise also includes aluminum lithographic printing plates produced from an aluminum sheet coil that has been coated with a light-sensitive image-recording layer in a subject country and that is subsequently unwound and cut to the final dimensions to produce a finished plate in a third country (including the United States), or exposed to light or heat to create an image on the plate in a third country (including in a foreign trade zone within the United States).

Excluded from the scope of these orders are lithographic printing plates manufactured using a substrate produced from a material other than aluminum, such as rubber or plastic.

Aluminum lithographic printing plates are currently classifiable under Harmonized Tariff Schedule of the United States (HTSUS) subheadings 3701.30.0000 and 3701.99.6060. Further, merchandise that falls within the scope of these orders may also be entered into the United States under HTSUS subheadings 3701.99.3000 and 8442.50.1000. Although the HTSUS subheadings are provided for convenience and customs purposes, the written description of the scope of these orders is dispositive.

[FR Doc. 2024-27426 Filed 11-21-24; 8:45 am]

BILLING CODE 3510-DS-P